DEPARTMENT OF AGRICULTURE

Submission for OMB Review; Comment Request

October 4, 2001.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

National Agricultural Statistics Service

Title: 2002 Census of Agriculture.

OMB Control Number: 0535-0226.

Summary of Collection: The National Agricultural Statistics Service (NASS) is responsible for conducting the Census of Agriculture under the authority of the Census of Agriculture Act of 1997, Public Law 105-113. The Census of Agriculture is required by law every five years and is the primary source of statistics concerning the nation's agricultural industry. It provides the only basis of consistent, comparable data for each county, county equivalent, and state in the United States and its outlying insular areas.

Need and Use of the Information: The information collected will serve as the basis for many agriculturally-based decisions. The data collection for the censuses of agriculture will be conducted primarily by mail-out/mail-back procedures and direct enumeration methods for Guam, the U.S. Virgin Islands and Commonwealth of the Northern Mariana Islands. Collecting this information less frequently would hinder Federal, State, and local governments' ability to monitor the farm programs and environmental regulations affecting the agricultural economy.

Description of Respondents: Farms; Individuals or households.

Number of Respondents: 3,312,500.

Frequency of Responses: Reporting: Other (Every 5 years).

Total Burden Hours: 1,286,791.

Farm Service Agency

Title: Tobacco Marketing Quotas and Price Support (7 CFR parts 711, 723, and 1464).

OMB Control Number: 0560-0058.

Summary of Collection: The Tobacco Marketing Quota Programs are regulated by the United States Department of Agriculture. Tobacco Marketing Quota Regulations govern the establishment of (1) farm acreage allotments and marketing quotas, (2) the issuance of marketing cards, the identification of marketing of tobacco, and (3) the collection of penalties, eligibility for price support and requirements on tobacco dealers, warehouse operators, and manufacturers of cigarettes. The Farm Service Agency (FSA) tries to make sure that producers will receive fair prices for their tobacco. This is done by administering the tobacco program through the use of marketing quotas, which balance supply and demand for tobacco with price support. The Agricultural Adjustment Act of 1938, and the Agricultural Act of 1949, provides the statutory authority for this information collection. FSA will collect information using several forms.

Need and Use of the Information: FSA will collect tobacco reports and financial records from producers, owners of tobacco allotments and quotas and warehouse operators. The information is used by the tobacco industry to accomplish its goal and objectives. If the information is not collected, it could result in an ineffective marketing quota program and the production and marketing of large amounts of excess tobacco.

Description of Respondents: Farm; Business or other-for-profit; Individuals or households; Federal Government.

Number of Respondents: 361,000.

Frequency of Responses: Recordkeeping; Reporting: On occasion; Weekly.

Total Burden Hours: 1,534,091.

Farm Service Agency

Title: Sugar Program.

OMB Control Number: 0560-0138.

Summary of Collection: The Federal Agricultural Improvement and Reform Act of 1996 (1996 Act) requires cane sugar refiners, sugar beet processors, and sugarcane processors to furnish the Secretary of Agriculture with information required for the effective administration of the program. The Sugar Program provides for USDA to make loans to processors of domestically grown sugarcane at 18 cents per pound and to processors of domestically grown sugar beets at 22.9 cent per pound for refined sugar. The Farm Service Agency (FSA) will collect information using several forms.

Need and Use of the Information: FSA will collect information to effectively administer the Sugar Program authorized and mandated by Section 156 of the 1996 Act. FSA will use the information to prepare monthly reports and to also determine the adequacy of the amount of sugar, syrups, and molasses to be imported. If the collection of information was not conducted, the Secretary could not accurately make the necessary determinations and estimates required by the various statutes.

Description of Respondents: Business or other-for-profit; Farm.

Number of Respondents: 49.

Frequency of Responses: Reporting: Monthly; Annually.

Total Burden Hours: 18,429.

Farm Service Agency

Title: Total Quality Systems Audit.

OMB Control Number: 0560-NEW.

Summary of Collection: The Total Quality System Audit (TQSA) is a fee for service program open to food processors and other food related manufacturers. To be compliant with TQSA standards the company must conform to 21 CFR parts 110, Current Good Manufacturing Practices, and Federal Acquisition Regulation subparts 9.1, Responsible Prospective Contractors, and 46.4, Government Contract Quality Assurance. A TQSA team has been organized in the Farm Service Agency (FSA) from personnel in Commodity Operations and the Kansas City Commodity Office. The TQSA team coordinates the audit with the company's management. The team makes detailed assessments of the company's production facilities, equipment, and procedures.

Need and Use of the Information: FSA will collect information using forms KD-1TQ, Total Quality Systems Audit-Audit Summary, and KC-3TQ, Total Quality Systems Audit-Corrective Action Request (CAR). FSA will collect records pertaining to organization, production, work procedures, quality testing, shipping, sub-supplier, certifications, proof of U.S. origin, and all USDA contract documents. The information will be used to determine the eligibility for and awarding of contracts.

Description of Respondents: Business or other-for-profit; Not-for-profit institutions; State, local, and tribal government.

Number of Respondents: 250.

Frequency of Responses: Recordkeeping; Reporting: Quarterly; Semi-annually; Annually; Other (bi-monthly).

Total Burden Hours: 250.

Rural Development

Title: Rural Empowerment Zones and Enterprise Communities (Application Process).

OMB Control Number: 0570-0026.

Summary of Collection: The Community Renewal Tax Relieve Act of 2000 (Pub. L. 106-554) authorized the Secretary of Department of Agriculture (USDA) to designate two more rural empowerment zones (Round III). The Empowerment Zone Program represents a holistic approach to the problems of distressed rural and urban communities. It emphasizes a bottom-up community based strategy rather than the traditional top-down approach. The strategy addresses an economic, human, community, physical development problems and opportunities in a comprehensive fashion. This program is intended to combine resources of the Federal Government with state and local governments, educational institutions and the private and non-profit sectors to implement community-developed strategic plans for community and economic development.

Need and Use of the Information: RD will collect information on poverty by census tract, unemployment and economic/social distress, overall population by tract, and geographic data as to size and configuration from applicants as a means of evaluating and selecting potential empowerment zones and enterprise communities. This information is used as part of the review and designation process for selecting the empowerment zone and enterprise communities designees and is a one-time process.

Description of Respondents: State, local, or tribal government.

Number of Respondents: 60.

Frequency of Responses: Reporting: Other (One time).

Total Burden Hours: 3,000.

Rural Development

Title: Rural Empowerment Zones and Enterprise Communities (Ongoing Reporting Requirements).

OMB Control Number: 0570-0027.

Summary of Collection: The Community Renewal Tax Relieve Act of 2000 (Pub. L. 106-554) authorized the Secretary of Department of Agriculture (USDA) to designate two more rural empowerment zones (Round III). The requirements imposed by the implementing regulations for the empowerment zone program: application data, ongoing reporting data and grant program data. The Empowerment Zone Program represents a holistic approach to the problems of distressed rural and urban communities. It emphasizes a bottom-up community based strategy rather than the traditional top-down approach. The strategy addresses an economic, human, community, physical development problems and opportunities in a comprehensive fashion. This program is intended to combine resources of the Federal Government with State and local governments, educational institutions and the private and non-profit sectors to implement community-developed strategic plans for community and economic development.

Need and Use of the Information: Once selected, the designees' progress is monitored through periodic reviews of the data collected. The data for periodic reports consist of a short narrative of progress by the designee and individual progress reports on each project that they have specified in their implementation plans. These periodic reviews provide the basis for USDA to continue or revoke a designation during the life of the federal program.

Description of Respondents: State, local, or tribal government.

Number of Respondents: 59.

Frequency of Responses: Reporting: Semi-annually; Annually; Other (Requests for grant advances).

Total Burden Hours: 1,382.

Rural Utilities Service

Title: 7 CFR 1777, Section 306C Water & Waste Disposal (WWD) Loans & Grants.

OMB Control Number: 0572-0109.

Summary of Collection: Section 306C of the Consolidated Farm and Rural Development Act (7 U.S.C. 1926c) authorizes the Rural Utilities Service to make loans and grants to low income rural communities whose residents face significant health risks. These communities do not have access to or are not served by adequate affordable water supply systems or waste disposal facilities. Loans and grants will be available to provide water and waste disposal facilities and services to these communities.

Need and Use of the Information: Eligible applicants submit an application package and other information to Rural Development field offices to develop or improve community water and waste disposal systems. In one percent of the cases an applicant will use the funds to enable individuals to connect to the applicant's system or improve residences to use the water or waste disposal system. In this situation, an applicant will make loans and grants to individuals and the applicant will submit an implementation plan, memorandum of agreement and use of funds report.

Description of Respondents: Not-for-profit institutions; Individuals or households.

Number of Respondents: 1.

Frequency of Responses: Reporting: Annually.

Total Burden Hours: 9.

Rural Housing Service

Title: 7 CFR 1930-C, Management and Supervision of Multiple Family Housing Borrowers and Grant Recipients.

OMB Control Number: 0575-0033.

Summary of Collection: The Rural House Service (RHS) is authorized under sections 514-516 and 521 of title V of the Housing Act of 1949, as amended to provide loans and grants to eligible recipients for the development of rural rental housing. Such multiple family housing projects are intended to meet the housing needs of persons or families having very low to moderate incomes, senior citizens, the handicapped or disabled, and domestic farm laborers. RHS has the responsibility of assuring the public that the housing project financed are managed and operated as mandated by Congress and are operated as economically as possible.

Need and Use of the Information: RHS will collect financial information to identify distressed properties, portfolio management trends, and potential problems before they become loan delinquencies, unpaid operation expenses, or high vacancy rates.

In addition, the information provided is intended to verify whether or not the borrower is complying with the terms and conditions of loan, grant, and/or subsidy agreements. This information is used by RHS to monitor the management of the projects and to conduct compliance reviews. Failure by RHS to monitor progress of borrowers could lead to noncompliance with statutory intent in some instances and financial default in others.

Description of Respondents: Business or other for-profit; Not-for-profit institutions; State, local, or tribal government; Farms; Individuals or households.

Number of Respondents: 538,200.

Frequency of Responses: Recordkeeping; Reporting: Monthly; Quarterly; Annually; On occasion.

Total Burden Hours: 2,143,740.

Rural Housing Service

Title: 7 CFR 1944-L, Tenant Grievance and Appeals Procedure.

OMB Control Number: 0575-0046.

Summary of Collection: The Rural Housing Service (RHS) is authorized, under sections 514, 515, and 521 of the Housing Act of 1949, to provide loans and grants to eligible recipients of the development of rural rental/cooperative and labor housing. Such multiple family housing projects are intended to meet the housing needs of persons or families who have moderate, low- and very-low incomes, senior citizens, the handicapped and domestic farm laborers. RHS is responsible for assuring the public that the housing projects financed are managed and operated as mandated by Congress. For this reason, the Agency implemented a grievance and appeals procedure on October 27, 1980, for tenants, members and applicants for occupancy in multiple family housing financed by RHS. The procedure requires certain information to be collected whenever a tenant wishes to appeal adverse actions by owners/managers of multi-family housing project financed by RHS.

Need and Use of the Information: The information collected is used to notify tenants of the reasons for the adverse actions and to ascertain the viewpoint of the tenant. The information is used in the course of trying to resolve the grievance. The consequence of not collecting the information is that tenants, members or applicants would not be able to exercise their rights provided by the Tenant Grievance Appeals procedure.

Description of Respondents: Business or for-profit.

Number of Respondents: 200.

Frequency of Responses: Recordkeeping; Reporting: On occasion.

Total Burden Hours: 82.

Rural Housing Service

Title: 7 CFR 1806-A. “Real Property Insurance”.

OMB Control Number: 0575-0087.

Summary of Collection: The Rural Housing Service (RHS) Multi-Family Housing (MFH) program is administered under the provisions of the Housing Act of 1949 and Sections 303(c), and 321(b) of the consolidated Farm and Rural Development Act (CONACT). The Farm Service Agency (FSA) and MFH of the RHS currently share this regulation. The regulation governs the servicing of property insurance on buildings and land securing the interest of RHS or FSA in connection with an FSA Farm Loan Program or RHS MFH loan. The information collected pertains to the verification of insurance on property securing Agency loans. The information required is submitted by FSA or FHS borrowers to agency offices. It is necessary to protect the government from losses due to weather, natural disasters, or fire and ensure that loan applicants meet the Act's loan making requirements of hazard insurance.

Need and Use of the Information: RHS MFH collects information from borrowers documenting that they have sufficient insurance on their property that would repair or replace the valuable structures on the property should it be damaged. This protects the Government from losses due to weather, natural disasters or fire.

Description of Respondents: Individuals or households; Farms; Business or for-profit.

Number of Respondents: 5,365.

Frequency of Responses: Reporting: On occasion.

Total Burden Hours: 4,895.

Rural Housing Service

Title: RD 1951-65, “Customer Initiated Payments (CIP)” and RD 1951-66, “FedWire Worksheet”.

OMB Control Number: 0575-NEW.

Summary of Collection: Currently, Rural Development has expanded its use of electronic methods for receiving and processing loan payments and collections. These electronic collection methods include Preauthorized Debits (PAD), Customer Initiated Payments (CIP), and FedWire and provide the borrower the ability to submit their loan payments the day prior to, or the day of their installment due date. To administer these electronic payment methods, Rural Development (RD) must collect the borrower's financial institution routing information.

Need and Use of the Information: Rural Development (RD) will request that borrowers make payments electronically via PAD, CIP, or FedWire. RD will use approved agency forms for collecting financial institution routing information. If the information were not collected, RD would be unable to collect load payments electronically.

Description of Respondents: Not-for-profit institutions; Business or other for-profit; State, local, or tribal government.

Number of Respondents: 600.

Frequency of Responses: Reporting: On occasion.

Total Burden Hours: 300.

Agricultural Marketing Service

Title: Customer Service Survey for USDA—Donated Food Products.

OMB Control Number: 0581-0182.

Summary of Collection: Each year the Agricultural Marketing Service (AMS) procures about $700 million dollars of poultry, livestock, fruit, and vegetable products for the school lunch and other domestic feeding programs under authority of 7 CFR 250, Regulations for the Donation of Food for Use in the United States, its Territories and possessions and areas under its jurisdiction. To maintain and improve the quality of these products, AMS has sought to make this process more customer-driven and therefore is seeking opinions from the users of these products. AMS will use AMS-11, “Customer Opinion Postcard”, to collect information. Customers that use USDA-procured commodities to prepare and serve meals retrieve these cards from the boxes and use them to rate their perception of product flavor, texture, and appearance as well as overall satisfaction.

Need and Use of the Information: AMS will collect information on the product type, production lot, and identify the location and type of facility in which the product was served. USDA program managers will use survey responses to maintain and improve product quality through the revision of USDA commodity specifications and follow-up action with producers of designated production lots.

Description of Respondents: State, Local, or Tribal Government; Not-for-profit institutions.

Number of Respondents: 8,400.

Frequency of Responses: Reporting: On occasion.

Total Burden Hours: 700.

Food and Nutrition Service

Title: Annual Report of State Revenue Matching.

OMB Control Number: 0584-0075.

Summary of Collection: The National School Lunch Program is mandated by the National School Lunch Act, 42 U.S.C. 1751 and the Child Nutrition Act of 1966, 42 U.S.C. 1771. The Food and Nutrition Service (FNS) administer the National School Lunch Program. Under the program, States are required to match 30 percent (or a lesser percent based on per capital income) of the Federal funds made available for the School Lunch Program. Annually, the State agencies are required to report to FNS the total funds used in order to receive Federal reimbursement for meals served to eligible participants.

Need and Use of the Information: The information collected allows FNS to monitor State compliance with the revenue matching requirement. Without the information, States may receive Federal funds, which are not warranted. Monitoring the matching of State funds is essential to preventing fraud, waste, and abuse in the National School Lunch Program.

Description of Respondents: State, local, or tribal government.

Number of Respondents: 54.

Frequency of Responses: Reporting: Annually.

Total Burden Hours: 4,320.

Food and Nutrition Service

Title: Issuance Reconciliation Report: FNS-46.

OMB Control Number: 0584-0080.

Summary of Collection: The Food Stamp Act of 1977 (the Act) at Section 7(d) requires State agencies to report on Food Stamp Program issuance not less than monthly. The Food and Nutrition Service (FNS), on behalf of the Secretary of Agriculture, administers the Food Stamp Program through State agencies. These State agencies are accountable for issuance and control of food stamp coupons. Accordingly, States are liable to USDA for any financial losses involved in the acceptance, storage, and issuance of food stamp coupons. Information is required from State agencies on wrongfully issued benefits including undocumented issuances, and returned benefits, stolen and transacted accountable issuance documents, replacement benefits, and obligations from the exchange of food stamp coupons for any reason.

Need and Use of the Information: FNS provides the FNS-46 form, Issuance Reconciliation Report, for State agencies to use in reporting reconciliation results from analysis of the benefit issuances for all issuance with the record-for-issuance file. FNS uses this information to assess liability and to determine billing amounts.

Description of Respondents: State, local, or tribal government.

Number of Respondents: 234.

Frequency of Responses: Reporting: Monthly.

Total Burden Hours: 22,416.

Forest Service

Title: Health Screen Questionnaire.

OMB Control Number: 0596-NEW.

Summary of Collection: The Protection Act of 1922 (16 U.S.C. 594) authorizes the Forest Service to fight fires on National Forest System lands. Individuals must complete the Health Screening Questionnaire (HSQ) when seeking employment as a new firefighter with the Forest Service or recertification as a Forest Service firefighter. Potential applicants are to complete forms FS-5100-30 and FS-5100-31, which are necessary to obtain their health screening information.

Need and Use of the Information: FS will collect information to determine whether an individual being considered for a position in Wildland Firefighting can carry out those duties in a manner that will not place the candidate unduly at risk due to inadequate physical fitness and health. If the information is not collected, the Government's liability risk is high, special needs of one individual may not be known, or the screening of an applicant's physical suitability would be greatly inhibited.

Description of Respondents: Individuals or households; Federal Government.

Number of Respondents: 15,000.

Frequency of Responses: Reporting: Annually.

Total Burden Hours: 1250.

Economic Research Service

Title: Direct Certification and Its Impact on Errors in the National School Lunch Program.

OMB Control Number: 0536-NEW.

Summary of Collection: The National School Lunch (NSLP) provides federal financial assistance and commodities to schools serving lunches that meet required nutrition standards. Children living in families whose incomes are 130 percent or less of the poverty level qualify for free meals; those living in families whose incomes are between 130 and 185 percent of the poverty level qualify for reduced-price meals. All other children pay “full price” for meals, although full-price lunches are also federally subsidized. Direct certification was introduced in the early 1900s and has expanded since then. Under direct certification, information transferred directly between food stamps or welfare agencies and schools is used to “directly certify” for free meals students whose families are receiving cash welfare, food stamps, or assistance from USDA food distribution programs on Indian reservations, without requiring these students to complete applications. The Economic Research Service (ERS) is conducting a study to get information about the policy of direct certification in the NSLP, certification error rates and the impact of direct certification on rates of error, certification, and participation.

Need and Use of the Information: ERS will collect information to determine the extent to which direct certification is meeting the objectives of controlling administrative costs and facilitating program access for eligible children and whether direct certification has adversely influenced the objective of providing program benefits only to those children who qualify. ERS will get valuable information on the extent to which direct certification leads to increases in overall levels of certification for free or reduced-price meals and participation in the NSLP. Without the information, it would be difficult for USDA to assess whether future changes in the policy of direct certification is warranted.

Description of Respondents: Not-for-profit institutions; State, local, or tribal government.

Number of Respondents: 1350.

Frequency of Responses: Reporting: Other (one-time).

Total Burden Hours: 2700.

Food and Nutrition Service

Title: Repayment Demand and Program Disqualification.

OMB Control Number: 0584-0492.

Summary of Collection: In conjuction with the Food Stamp Act of 1977, the Food and Nutrition Service (FNS) implements regulations that provide requirements for food stamp household application, certfication, and continued eligibility for food stamp benefits. Occasionally, FNS must initiate collection action for repayment of overissued benefits resulting from inadvertent household and State agency overissuances, and overissuances due to intentional program violations. Information is collected in these instances through the appropriate State agency to document the claim of overissuance and initiate repayment.

Need and Use of the Information: State agency personnel will collect the information from individuals collecting food stamp benefits. The State agencies must maintain all records associated with this collection for a period of three years so that FNS can review documentation during compliance reviews and other audits. Without approval of this information collection, FNS would not be able to correct accidental or fraudulent overpayment errors in the Food Stamp Program.

Description of Respondents: State, local, and tribal government; Individuals or households.

Number of Respondents: 676,053.

Frequency of Responses: Recordkeeping; Reporting: On occasion.

Total Burden Hours: 162,560.

Animal and Plant Health Inspection Service

Title: 9 CFR 75 Communicable Diseases in Horses.

OMB Control Number: 0579-0127.

Summary of Collection: Sections 111, 114, 114a, 114-1, 115, 120, 125, 126, 134a, 134c, 134f, and 134g (title 21 U.S.C.) authorizes the Secretary to prevent, control and eliminate domestic diseases such as equine infectious anemia (EIA) and to manage exotic diseases such as contagious equine metritis and other foreign animal diseases. The Animal and Plant Health Inspection Service (APHIS) Veterinary Services is responsible for administering these and other regulations intended to ensure that horses affected with EIA are moved interstate in a way that does not endanger the health of the U.S. equine population.

Need and Use of the Information: The information collected from forms, APHIS VS 10-11, Equine Infectious Anemia Laboratory Test and 10-12, Equine Infectious Anemia Supplemental Investigation will be used to prevent the spread of equine infectious anemia. Without the information it would be impossible for APHIS to effectively regulate the interstate movement of horses infected with EIA.

Description of Respondents: Individuals or households; Farms; Business or other for-profit; State, local and tribal government.

Number of Respondents: 10,053.

Frequency of Responses: Recordkeeping; Reporting: On occasion.

Total Burden Hours: 98,156.

Farm Service Agency

Title: 7 CFR 1910-A, Receiving and Processing Applications.

OMB Control Number: 0560-0178.

Summary of Collection: Section 302 (7 U.S.C. 1922) of the Consolidated Farm and Rural Development Act (CONACT) provides that “the Secretary is authorized to make and insure loans under this title to farmers and ranchers * * *” Section 339 (7 U.S.C. 1989) of the CONACT further provides “the Secretary is authorized to make such rules and regulations, prescribe the terms and conditions for making and insuring loans, security instruments and agreements, except as otherwise specified herein, and make such delegations of authority as he deems necessary to carry out this title.” The Farm Service Agency (FSA) has issued regulations through the Federal Register process to implement the making and servicing of direct loans in chapter 18 of the Code of Federal Regulations. These regulations establish the information collections necessary for FSA to make and service direct loans. These loans include Operating, Farm Ownership, Soil and Water, Softwood Timber Production, Emergency, Economic Emergency, Economic Opportunity, Recreation, and Rural Housing loans for Farm Service Buildings.

Need and use of the Information: FSA will collect information using loan applications to determine eligibility and financial feasibility from respondent's requests for loans. The information is required to insure that FSA provides assistance to applicants who have reasonable prospects of repaying the government and meet statutory eligibility requirements.

Description of Respondents: Farm; Individuals or households; Business or other-for-profit; Federal Government.

Number of Respondents: 34,970.

Frequency of Responses: Reporting: Other (eligibility).

Total Burden Hours: 119,412.

Sondra A. Blakey,
Departmental Information Clearance Officer.

[FR Doc. 01-25531 Filed 10-10-01; 8:45 am]

BILLING CODE 3410-01-M